DEPARTMENT OF DEFENSE

GENERAL SERVICES ADMINISTRATION

NATIONAL AERONAUTICS AND SPACE ADMINISTRATION

[OMB Control No. 9000-0014; Docket 2014-0055; Sequence 5]

Federal Acquisition Regulation; Information Collection; Statement and Acknowledgment (Standard Form 1413)

AGENCIES: Department of Defense (DOD), General Services Administration (GSA), and National Aeronautics and Space Administration (NASA).

ACTION: Notice of request for public comments regarding an extension to an existing OMB clearance.

SUMMARY: Under the provisions of the Paperwork Reduction Act of 1995 (44 U.S.C. chapter 35), the Regulatory Secretariat Division (MVCB) will be submitting to the Office of Management and Budget (OMB) a request to review and approve an extension of a currently approved information collection requirement concerning statement and acknowledgment Standard Form (SF) 1413. A notice was published in the Federal Register at 79 FR 24429 on April 30, 2014, no comments were received.

DATES: Submit comments on or before August 25, 2014.

ADDRESSES: Submit comments identified by Information Collection 9000-0014 by any of the following methods:

• Regulations.gov: http://www.regulations.gov.

Submit comments via the Federal eRulemaking portal by searching the OMB control number 9000-0014. Select the link “Comment Now” that corresponds with “Information Collection 9000-0014, Statement and Acknowledgment SF 1413”. Follow the instructions provided on the screen. Please include your name, company name (if any), and “Information Collection 9000-0014, Statement and Acknowledgment SF 1413” on your attached document.

• Fax: 202-501-4067.

• Mail: General Services. Administration, Regulatory Secretariat Division (MVCB), 1800 F Street NW., Washington, DC 20405. ATTN: Ms. Flowers/IC 9000-0014, Statement and Acknowledgment SF 1413.

Instructions: Please submit comments only and cite Information Collection 9000-0014, in all correspondence related to this collection. All comments received will be posted without change to http://www.regulations.gov, including any personal and/or business confidential information provided.

FOR FURTHER INFORMATION CONTACT: Mr. Edward Loeb, Procurement Analyst, Acquisition Policy Division, via telephone 202-501-0650 or via email to edward.loeb@gsa.gov.

SUPPLEMENTARY INFORMATION:

A. Purpose

SF 1413, Statement and Acknowledgment, is used by all executive agencies, including the Department of Defense, to obtain a statement from contractors that the proper clauses have been included in subcontracts. The form is used by the prime contractor to identify and report all applicable subcontracts (all tiers) awarded under the prime contract, identify specific scopes of work the subcontractors will be performing, subcontract award date, and subcontract number, and provide formal notification to the applicable subcontractors of the labor laws and associated clauses they are responsible for complying with.

B. Annual Reporting Burden

A reassessment of the number of contracts awarded that required the inclusion of the SF 1413 was performed for Fiscal Year (FY) 2010, FY 2011, and FY 2012 using data obtained from the Federal Procurement Data System. Based on the comprehensive reassessment performed, it was determined that no changes to the annual number of responses and the annual time burden (from the previous information collection published in the Federal Register at 76 FR 28039 on May 13, 2011) was warranted at this time. No public comments were received in prior years that have challenged the validity of the Government's estimate.

Respondents: 31,500.

Responses per Respondent: 2.

Total Responses: 63,000.

Hours per Response: .05.

Total Burden Hours: 3,150.

C. Public Comments

Public comments are particularly invited on: Whether this collection of information is necessary for the proper performance of functions of the Federal Acquisition Regulation (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies Of Proposals: Requesters may obtain a copy of the information collection documents from the General Services Administration, Regulatory Secretariat Division (MVCB), 1800 F Street NW., Washington, DC 20405, telephone 202-501-4755. Please cite OMB Control No. 9000-0014, Statement and Acknowledgment SF 1413, in all correspondence.

Dated: July 17, 2014.
Karlos Morgan,
Acting Director, Federal Acquisition Policy Division, Office of Government-wide Acquisition Policy, Office of Acquisition Policy, Office of Government-wide Policy.

[FR Doc. 2014-17404 Filed 7-23-14; 8:45 am]

BILLING CODE 6820-EP-P